DEPARTMENT OF STATE

[Public Notice 8355]

30-Day Notice of Proposed Information Collection: Statement of Exigent/Special Family Circumstances for Issuance of a U.S. Passport to a Minor Under Age 16

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATE(S): Submit comments directly to the Office of Management and Budget (OMB) up to July 22, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to PPT Forms Officer, U.S. Department of State, 2100 Pennsylvania Avenue NW., Room 3030, Washington, DC 20037, who may be reached on (202) 663-2457 or at PPTFormsOfficer@state.gov.

SUPPLEMENTARY INFORMATION: • Title of Information Collection: Statement of Exigent/Special Family Circumstances for Issuance of a U.S. Passport to a Minor under Age 16.

• OMB Control Number: None.

• Type of Request: New Collection.

• Originating Office: Bureau of Consular Affairs, Passport Services, Office of Program Management and Operational Support, Program Coordination Division (CA/PPT/S/PMO/PC).

• Form Number: DS-5525.

• Respondents: Individuals or Households.

• Estimated Number of Respondents: 115,050 respondents per year.

• Estimated Number of Responses: 115,050 responses per year.

• Average Time per Response: 30 minutes or 0.5 hour.

• Total Estimated Burden Time: 57,525 hours per year.

• Frequency: On occasion.

• Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The information collected on the DS-5525, “Statement of Exigent/Special Family Circumstances for Issuance of a U.S. Passport to a Minor under Age 16”, is used in conjunction with the DS-11, “Application for a U.S. Passport”. The DS-5525 can serve as the statement describing exigent or special family circumstances, which is required if written consent of the non-applying parent or guardian cannot be obtained when the passport application is executed for a minor under age 16. The statement must explain the reason for the request.

The legal authority permitting this information assists the U.S. Department of State to administer the regulations in 22 CFR 51.28 requiring that both parents and/or any guardian consent to the issuance of a passport to a minor under age 16, except where one parent has sole custody or certain exceptions apply. This regulation was mandated by Section 236 of the Admiral James W. Nance and Meg Donovan Foreign Relations authorization Act, Fiscal Year 2000 and 2001 (enacted by Pub. L. 106-113, Div. B, Section 1000 (a)(7)), and helps to prevent international child abduction, child trafficking, and other forms of passport fraud.

Methodology:

Passport Services collects information from U.S. citizens and non-citizen nationals when they complete and submit the DS-5525, “Statement of Exigent/Special Family Circumstances for Issuance of a U.S. Passport to a Minor under Age 16”. Passport applicants can either download the DS-5525 from the internet or obtain the form from an Acceptance Facility/Passport Agency. The form must be completed, signed, and submitted along with the applicant's DS-11, “Application for a U.S. Passport”.

Additional Information:

Under the currently approved OMB collection 1405-0129, the DS 3053 collects both the Statement of Consent and the Statement of Exigent/Special Family Circumstances. However, the proposed collection will request this information using two separate forms to ensure that we more clearly communicate to the public what is and what is not a special family circumstance. Separating out the forms also allows the passport specialist to more clearly control and adjudicate those cases that do not qualify as a special family circumstance:

• DS-3053, “Statement of Consent: Issuance of a Passport to a Minor under Age 16,” and

• DS-5525, “Statement of Exigent/Special Family Circumstances for Issuance of a Passport to a Minor under Age 16.”

• In addition to general format changes, an oath will be placed onto the proposed DS-5525 form. The oath is located above the signature line on Page 2 of the form and states: “OATH: I declare under penalty of perjury that all statements made in this supporting document are true and correct.”

Dated: June 7, 2013.
Brenda S. Sprague,
Deputy Assistant Secretary for Passport Services, Bureau of Consular Affairs, Department of State.

[FR Doc. 2013-14665 Filed 6-19-13; 8:45 am]

BILLING CODE 4710-06-P